DEPARTMENT OF THE INTERIOR

Bureau of Land Management Alaska

[AK-921-1410-BK-P]

Notice for Publication: Filing of Plat of Survey; Alaska

1. The plats of survey of the following described lands were officially filed in the Alaska State Office, Anchorage, Alaska, on the date indicated.

A plat representing the dependent resurvey of the south, east, north, and west boundaries, and portions of the subdivisional lines of Township 15 North, Range 3 East, Seward Meridian, Alaska, was accepted March 20, 2003, and was officially filed May 30, 2003.

A plat representing the survey of the First Guide Meridian East, through Township 15 North, between Ranges 4 and 5 East, and the south boundary of Township 15 North, Range 4 East, Seward Meridian, Alaska, was accepted March 20, 2003, and was officially filed May 30, 2003.

A plat representing the dependent resurvey of a portion of the east boundary, a portion of the south boundary, portions of the subdivisional lines, portions of the subdivision of section lines, portions of the remeanders, the survey of portions of the subdivision of section lines, and the meanders of unidentified islands within Township 16 North, Range 3 East, Seward Meridian, Alaska, was accepted March 20, 2003, and was officially filed June 4, 2003.

A plat representing the dependent resurvey of portions of the south boundary, portions of the subdivisional lines, and the survey of the First Guide Meridian East, through Township 16 North, between Ranges 4 and 5 East, portions of the subdivisional and subdivision of section lines, the south boundary, the boundary of Public Land Order No. 3324, and the meanders within Township 16 North, Range 4 East, Seward Meridian, Alaska, was accepted March 20, 2003, and was officially filed June 16, 2003.

A plat representing the survey of the First Guide Meridian East, through Township 17 North, between Ranges 4 and 5 East, the Fourth Standard Parallel North on the south boundary, and the north boundary, of Township 17 North, Range 4 East, Seward Meridian, Alaska, was accepted March 20, 2003, and was officially filed May 30, 2003.

These plats were prepared at the request of the Bureau of Land Management, Division of Conveyances.

2. These plats will immediately become the basic record for describing the land for all authorized purposes. This survey has been placed in the open files in the Alaska State Office and is available to the public as a matter of information.

3. All inquires relating to these lands should be sent to the Alaska State Office, Bureau of Land Management, 222 West Seventh Avenue, #13, Anchorage, Alaska 99513-7599; 907-267-1403.

Daniel L. Johnson,
Chief, Branch of Field Surveys.

[FR Doc. 03-20982 Filed 8-15-03; 8:45 am]

BILLING CODE 1410-BK-P